SECURITIES AND EXCHANGE COMMISSION

[SEC File No. 270-771, OMB Control No. 3235-0752]

Submission for OMB Review; Comment Request; Extension: Rule 18a-9

Upon Written Request, Copies Available From: Securities and Exchange Commission, Office of FOIA Services, 100 F Street NE, Washington, DC 20549-2736.

Notice is hereby given that, pursuant to the Paperwork Reduction Act of 1995 (44 U.S.C. 3501 et seq.), the Securities and Exchange Commission (“Commission”) has submitted to the Office of Management and Budget (“OMB”) a request for approval of extension of the previously approved collection of information provided for in Rule 18a-9, under the Securities Exchange Act of 1934 (15 U.S.C. 78a et seq.).

Rule 18a-9, which is modeled on Exchange Act Rule 17a-13, establishes a securities count program for security-based swap dealers not dually registered as a broker-dealer or regulated by a prudential regulator (“stand-alone SBSDs”). Specifically, Rule 18a-9 requires stand-alone SBSDs to examine and count the securities they physically hold, account for the securities that are subject to their control and direction but are not in their physical possession, verify the locations of securities under certain circumstances, and compare the results of the count and verification with their records.

Stand-alone SBSDs are required to perform a securities count each quarter, either as of a date certain or on a cyclical basis. Rule 18a-9 requires stand-alone SBSDs to note any discrepancies between the count and the firm's records, and to record in the firm's record any discrepancies that remain unresolved seven business days after the date of the examination, count, and verification.

The Commission estimates that the total hour burden under Rule 18a-9 is approximately 1,100 hours per year. Since the last approval of this information collection, the estimated total burden hours per year has increased due to an increase in the estimated number of respondents subject to the requirements of the Rule.

An agency may not conduct or sponsor, and a person is not required to respond to, a collection of information under the PRA unless it displays a currently valid OMB control number.

The public may view background documentation for this information collection at the following website: www.reginfo.gov. Find this particular information collection by selecting “Currently under 30-day Review—Open for Public Comments” or by using the search function. Written comments and recommendations for the proposed information collection should be sent by July 15, 2024 to (i) www.reginfo.gov/public/do/PRAMain and (ii) David Bottom, Director/Chief Information Officer, Securities and Exchange Commission, c/o John Pezzullo, 100 F Street NE, Washington, DC 20549, or by sending an email to PRA_Mailbox@sec.gov.

Dated: June 11, 2024.
Sherry R. Haywood,
Assistant Secretary.

[FR Doc. 2024-13173 Filed 6-13-24; 8:45 am]

BILLING CODE 8011-01-P